DEPARTMENT OF THE INTERIOR

Fish and Wildlife Service

Information Collection Sent to the Office of Management and Budget (OMB) for Approval; OMB Control Number 1018-0123; International Conservation Grant Programs

AGENCY: Fish and Wildlife Service, Interior.

ACTION: Notice; request for comments.

SUMMARY: We (Fish and Wildlife Service) have sent an Information Collection Request (ICR) to OMB for review and approval. The ICR, which is summarized below, describes the nature of the collection and the estimated burden and cost. This ICR is scheduled to expire on June 30, 2007. We may not conduct or sponsor and a person is not required to respond to a collection of information unless it displays a currently valid OMB control number. However, under OMB regulations, we may continue to conduct or sponsor this information collection while it is pending at OMB.

DATES: You must submit comments on or before July 20, 2007.

ADDRESSES: Send your comments and suggestions on this ICR to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request additional information about this IC, contact Hope Grey by mail, fax, or e-mail (see ADDRESSES) or by telephone at (703) 358-2482.

SUPPLEMENTARY INFORMATION:

OMB Control Number: 1018-0123.

Title: International Conservation Grant Programs.

Service Form Number(s): 3-2338.

Type of Request: Revision of currently approved collection.

Affected Public: Domestic and nondomestic Federal, State, and local governments; nonprofit, nongovernmental organizations; public and private institutions of higher education; and any other organization or individual with demonstrated experience deemed necessary to carry out the proposed project.

Respondent's Obligation: Required to obtain or retain a benefit.

Frequency of Collection: Annually.

Estimated Annual Number of Respondents: 605 (489 applications; 116 reports).

Estimated Total Annual Responses: 721 (489 applications; 232 reports).

Estimated Time per Response: 12 hours per application; 30 hours per report.

Estimated Total Annual Burden Hours: 12,828 (5,868 for applications; 6,960 for reports).

Abstract: The Division of International Conservation awards grants funded under the:

(1) African Elephant Conservation Act (16 U.S.C. 4201-4245).

(2) Asian Elephant Conservation Act of 1997 (16 U.S.C. 4261).

(3) Great Ape Conservation Act of 2000 (Pub. L. 106-411).

(4) Rhinoceros and Tiger Conservation Act of 1994 (16 U.S.C. 5306).

(5) Marine Turtle Conservation Act (Pub. L. 108-266).

(6) Wildlife Without Borders Programs - Mexico, Latin America and the Caribbean, and Russia.

The information that we collect for grants awarded under the Marine Turtle Conservation Act is approved under OMB Control No. 1018-0128, which expires March 31, 2009. We are proposing to include that information collection with the others in this approval request, all under OMB Control Number 1018-0123.

Applicants submit proposals for funding in response to Notices of Funding Availability that we publish on Grants.gov. We collect the following information under each Notice of Funding Availability:

(1) Cover page with basic project details (FWS Form 3-2338). This is a new form that we propose to replace the six forms currently approved under OMB Control No. 1018-0123.

(2) Project summary and narrative.

(3) Letter of appropriate government endorsement.

(4) Brief curricula vitae for key project personnel.

(5) Complete Standard Forms 424, 424a and 424b (nondomestic applicants do not submit the standard forms).

Proposals may also include, as appropriate, a copy of the organization's Negotiated Indirect Cost Rate Agreement (NIRCA) and any additional documentation supporting the proposed project.

The project summary and narrative is the basis for this information collection request for approval. A panel of technical experts reviews each proposal to assess how well the project addresses the priorities identified by each program's authorizing legislation. As all of the on-the-ground projects funded by these programs are conducted outside the United States, the letter of appropriate government endorsement ensures that the proposed activities will not meet with local resistance or work in opposition to locally identified priorities and needs. Brief curricula vitae for key project personnel allow the review panel to assess the qualifications of project staff to effectively carry out the project goals and objectives. As all Federal entities must honor the indirect cost rates an organization has negotiated with its cognizant agency, we require all organizations with a NICRA to submit the agreement paperwork with their proposals to verify how their rate is applied in their proposed budget. Applicants may provide any additional documentation that they believe best supports their proposal.

Comments: On March 16, 2007, we published in the Federal Register (72 FR 12630) a notice of our intent to request that OMB renew authority for this information collection. We solicited comments for 60 days, ending on May 15, 2007. We received one comment. The commenter did not address the information collection requirements, but did express a general concern as to whether appropriated funds were reaching the intended species. We have not made any changes to our information collection as a result of the comment.

We again invite comments concerning this information collection on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: June 12, 2007.
Hope Grey,
Information Collection Clearance Officer, Fish and Wildlife Service.

FR Doc. E7-11909 Filed 6-19-07; 8:45 am

Billing Code 4310-55-S